ENVIRONMENTAL PROTECTION AGENCY

40 CFR Parts 52 and 81

[EPA-R04-OAR-2012-0851; FRL-9910-64-Region 4]

Approval and Promulgation of Implementation Plans and Designation of Areas for Air Quality Planning Purposes; Georgia; Redesignation of the Macon, Georgia, 1997 Annual Fine Particulate Matter Nonattainment Area to Attainment

AGENCY: Environmental Protection Agency (EPA).

ACTION: Final rule; correcting amendment.

SUMMARY: Environmental Protection Agency (EPA) is taking final action to approve a request submitted on June 21, 2012, by the Georgia Department of Natural Resources, through Georgia Environmental Protection Division (GA EPD), to redesignate the Macon, Georgia, fine particulate matter (PM2.5) nonattainment area (hereafter referred to as the “Macon Area” or “Area”) to attainment for the 1997 Annual PM2.5 National Ambient Air Quality Standards (NAAQS). The Macon Area is comprised of Bibb County and a portion of Monroe County in Georgia. EPA's approval of the redesignation request is based on the determination that Georgia has met the criteria for redesignation to attainment set forth in the Clean Air Act (CAA or Act). EPA is also approving a revision to the Georgia State Implementation Plan (SIP) to include the 1997 Annual PM2.5 maintenance plan for the Macon Area. Additionally, EPA is approving into the Georgia SIP the motor vehicle emission budgets (MVEBs) for nitrogen oxides (NOX) and PM2.5 for the year 2023 for the Macon Area that are included as part of Georgia's maintenance plan for the 1997 Annual PM2.5 NAAQS. Furthermore, EPA is approving a determination that the Area is expected to maintain the 1997 Annual PM2.5 NAAQS through the year 2024. EPA is also correcting an inadvertent error in the proposed rulemaking for this action.

DATES: This rule will be effective June 12, 2014.

ADDRESSES: EPA has established a docket for this action under Docket Identification No. EPA-R04-OAR-2012-0851. All documents in the docket are listed on the www.regulations.gov Web site. Although listed in the index, some information is not publicly available, i.e., Confidential Business Information or other information whose disclosure is restricted by statute. Certain other material, such as copyrighted material, is not placed on the Internet and will be publicly available only in hard copy form. Publicly available docket materials are available either electronically through www.regulations.gov or in hard copy at the Regulatory Development Section, Air Planning Branch, Air, Pesticides and Toxics Management Division, U.S. Environmental Protection Agency, Region 4, 61 Forsyth Street SW., Atlanta, Georgia 30303-8960. EPA requests that if at all possible, you contact the person listed in the FOR FURTHER INFORMATION CONTACT section to schedule your inspection. The Regional Office's official hours of business are Monday through Friday, 8:30 to 4:30, excluding federal holidays.

FOR FURTHER INFORMATION CONTACT: Joydeb Majumder, Regulatory Development Section, Air Planning Branch, Air, Pesticides and Toxics Management Division, U.S. Environmental Protection Agency, Region 4, 61 Forsyth Street SW., Atlanta, Georgia 30303-8960. Joydeb Majumder may be reached by phone at (404) 562-9121 or via electronic mail at majumder.joydeb@epa.gov.

SUPPLEMENTARY INFORMATION:

I. What is the background for the actions?

On June 21, 2012,¹ the Georgia Department of Natural Resources, through GA EPD, submitted a request to EPA for redesignation of the Macon Area to attainment for the 1997 Annual PM2.5 NAAQS, and for approval of a Georgia SIP revision containing a maintenance plan for the Area.² On February 5, 2014, EPA proposed to redesignate the Macon Area to attainment for the 1997 Annual PM2.5 NAAQS, and to approve, as a revision to the Georgia SIP, the State's 1997 Annual PM2.5 NAAQS maintenance plan and the MVEBs for direct PM2.5 and NOX for the Macon Area included in that maintenance plan.³ See 79 FR 6842. EPA also proposed to determine that the Macon Area is continuing to attain the 1997 Annual PM2.5 NAAQS and that attainment can be maintained through 2024. EPA received no adverse comments on the February 5, 2014, proposed rulemaking and one comment supporting the proposal.

¹ Although EPA received Georgia's request to redesignate the Macon Area to attainment for the 1997 Annual PM2.5 NAAQS on June 26, 2012, along with the maintenance plan SIP submission, the official submittal date for the redesignation request and maintenance plan is the date of the cover letter, June 21, 2012.

² EPA designated the Macon Area as nonattainment for the annual 1997 PM2.5 NAAQS on January 5, 2005 (70 FR 944) as supplemented on April 14, 2005 (70 FR 19844).

³ On March 2, 2012, EPA approved, under section 172(c)(3) of the CAA, Georgia's 2002 base-year emissions inventory for the Macon Area as part of the SIP revision submitted by GA EPD to provide for attainment of the 1997 PM2.5 NAAQS in the Area. See 77 FR 12724.

As stated in EPA's February 5, 2014, proposal notice, the 3-year design value of 13.4 micrograms per cubic meter (μg/m³) for 2009-2011 meets the PM2.5 Annual NAAQS of 15.0 μg/m³. EPA has reviewed the most recent ambient monitoring data, which confirms that the Macon Area continues to attain the 1997 Annual PM2.5 NAAQS beyond the 3-year attainment period of 2009-2011.

II. What are the actions EPA is taking?

In today's rulemaking, EPA is approving Georgia's redesignation request to change the legal designation of Bibb County and a portion of Monroe County in Georgia from nonattainment to attainment for the 1997 Annual PM2.5 NAAQS, and as a revision to the Georgia SIP, the State's 1997 Annual PM2.5 NAAQS maintenance plan and the MVEBs for direct PM2.5 and NOX for the Macon Area included in that maintenance plan. The maintenance plan is designed to demonstrate that the Macon Area will continue to attain the 1997 Annual PM2.5 NAAQS through 2023. EPA's approval of the redesignation request is based on EPA's determination that the Macon Area meets the criteria for redesignation set forth in CAA, including EPA's determination that the Macon Area has attained and continues to attain the 1997 Annual PM2.5 NAAQS and that attainment can be maintained through 2024. EPA's analyses of Georgia's redesignation request and maintenance plan are described in detail in the February 5, 2014, proposed rule. See 79 FR 6842.

Today, EPA is also clarifying and correcting an entry for Table 4 of EPA's February 5, 2014, proposed rule related to onroad mobile emissions. In EPA's proposed rule, the 2020 PM2.5 onroad mobile emissions are presented as 70 tons. This was a typographical error. The 2020 PM2.5 onroad mobile emissions should have been listed as 107 tons as presented in Table 3-14 of Georgia's June 21, 2012 submittal. Even with this change, EPA believes that it is appropriate to approve Georgia's redesignation request and maintenance plan. EPA has determined that the correction for Table 4 of EPA's February 5, 2014 proposed rule falls under the “good cause” exemption in section 553(b)(3)(B) of the Administrative Procedure Act which, upon finding “good cause,” authorizes agencies to dispense with public participation where public notice and comment procedures are impracticable, unnecessary, or contrary to the public interest. Public notice and comment for this typographical correction is unnecessary because EPA's evaluation leading to the February 5, 2014, proposal considered the correct value reported in Georgia's submittal, and therefore, the correction does not change EPA's determination that Georgia has met the requirements for the Macon Area to be redesignated to attainment for the 1997 Annual PM2.5 NAAQS.

Subsequent to publication of the proposed rule, GA EPD notified EPA that the Georgia Board of Natural Resources had modified Georgia Rule 391-3-1-.02(2)(mmm) entitled “NOX Emissions from Stationary Gas Turbines and Stationary Engines used to Generate Electricity” to exempt certain engines at data centers from the rule's NOX limits and had repealed Georgia Rule 391-3-1-.02(2)(bbb) entitled “Gasoline Marketing.” GA EPD adopted Georgia Rule 391-3-1-.02(2)(mmm) as a statewide ozone control measure, and the recent amendment exempts stationary engines at data centers from the rule's NOX emission limits provided that the engines operate for less than 500 hours per year and only for routine testing and maintenance (limited to May through September between 10 p.m. and 4 a.m.), when electric power from a utility is not available, or during internal system failures. These data centers are equipped with uninterruptable power supplies (UPSs) that supply electricity during a power outage, and the exempted engines are designed to provide power only when the UPSs malfunction. Given the nature of the exempted engines and the conditions necessary to qualify for the exemption, any emissions increase is likely negligible. The Gasoline Marketing rule, enacted to improve ozone levels in the Atlanta Area, required that fuel sold in the Atlanta ozone nonattainment area and in areas determined to have contributed to ozone levels in the nonattainment area contain reduced sulfur and have a reduced Reid Vapor Pressure. This rule applied to fuel sold in the portion of Monroe County within the Macon Area, and the projected mobile source emissions in GA EPD's maintenance plan assumed continued implementation of the rule through the maintenance period. GA EPD has subsequently provided calculations to EPA demonstrating that the repeal of the Gasoline Marketing rule increases the on-road NOX emissions projected for 2023 in the Macon Area by approximately 0.02 tons per year (tpy) and does not change the projected emissions of SO2 or direct PM2.5.

EPA has concluded that the changes to the aforementioned rules do not affect the Agency's decision to approve the redesignation request and maintenance plan for the Macon Area. Any increase in emissions that may result from these modifications is expected to be minimal and well within the margin necessary to maintain attainment of the 1997 annual PM2.5 standard. As discussed in the proposed rulemaking notice, emissions of SO2 and NOX in the Macon Area are expected to decrease by 93 percent (77,757 tpy to 5,397 tpy) and 38 percent (30,511 tpy to 18,903 tpy), respectively between 2007 and 2023.

III. Why is EPA taking these actions?

EPA has determined that the Macon Area has attained the 1997 Annual PM2.5 NAAQS and has also determined that all other criteria for the redesignation of the Macon Area from nonattainment to attainment of the 1997 Annual PM2.5 NAAQS have been met. See CAA section 107(d)(3)(E). One of those requirements is that the Macon Area has an approved plan demonstrating maintenance of the 1997 Annual PM2.5 NAAQS over the ten-year period following redesignation. EPA has determined that attainment can be maintained through 2024 and is taking final action to approve the maintenance plan for the Macon Area as meeting the requirements of sections 175A and 107(d)(3)(E) of the CAA. The detailed rationale for EPA's findings and actions is set forth in the February 5, 2014 proposed rulemaking. See 79 FR 6842.

IV. What are the effects of these actions?

Approval of the redesignation request changes the legal designation of Bibb County and a portion of Monroe County for the 1997 Annual PM2.5 NAAQS. EPA is modifying the regulatory table in 40 CFR 81.311 to reflect a designation of attainment for these counties. EPA is also approving, as a revision to the Georgia SIP, the State's plan for maintaining the 1997 Annual PM2.5 NAAQS in the Macon Area. The maintenance plan includes contingency measures to remedy possible future violations of the 1997 Annual PM2.5 NAAQS and establishes 2023 MVEBs for direct PM2.5 and NOX for the Macon Area. Within 24 months of the effective date of EPA's approval of the maintenance plan, the transportation partners will need to demonstrate conformity to the new PM2.5 and NOX MVEBs pursuant to 40 CFR 93.104(e).

V. Final Action

EPA is taking final action to approve the redesignation and change the legal designation of Bibb County and a portion of Monroe County for the 1997 Annual PM2.5 NAAQS. Through this action, EPA is also approving into the Georgia SIP the 1997 Annual PM2.5 maintenance plan for the Macon Area, which includes the new 2023 PM2.5 and NOX MVEBs of 80.5 tons per year (tpy) and 2,187 tpy, respectively, for this Area. EPA's approval of the redesignation request is based on the Agency's determination that the Macon Area meets the criteria for redesignation set forth in CAA, including EPA's determination that the Macon Area has attained and continues to attain the 1997 Annual PM2.5 NAAQS and that attainment can be maintained through 2024.

VI. Statutory and Executive Order Reviews

Under the CAA, redesignation of an area to attainment and the accompanying approval of the maintenance plan under CAA section 107(d)(3)(E) are actions that affect the status of geographical area and do not impose any additional regulatory requirements on sources beyond those required by state law. A redesignation to attainment does not in and of itself impose any new requirements, but rather results in the application of requirements contained in the CAA for areas that have been redesignated to attainment. Moreover, the Administrator is required to approve a SIP submission that complies with the provisions of the Act and applicable Federal regulations. 42 U.S.C. 7410(k); 40 CFR 52.02(a). Thus, in reviewing SIP submissions, EPA's role is to approve state choices, provided that they meet the criteria of the CAA. Accordingly, this action merely approves state law as meeting Federal requirements and does not impose additional requirements beyond those imposed by state law. For these reasons, these actions:

• Are not a “significant regulatory action” subject to review by the Office of Management and Budget under Executive Order 12866 (58 FR 51735, October 4, 1993);

• Do not impose an information collection burden under the provisions of the Paperwork Reduction Act (44 U.S.C. 3501 et seq.);

• Are certified as not having a significant economic impact on a substantial number of small entities under the Regulatory Flexibility Act (5 U.S.C. 601 et seq.);

• Do not contain any unfunded mandate or significantly or uniquely affect small governments, as described in the Unfunded Mandates Reform Act of 1995 (Pub. L. 104-4);

• Do not have Federalism implications as specified in Executive Order 13132 (64 FR 43255, August 10, 1999);

• Are not an economically significant regulatory action based on health or safety risks subject to Executive Order 13045 (62 FR 19885, April 23, 1997);

• Are not significant regulatory action subject to Executive Order 13211 (66 FR 28355, May 22, 2001);

• Are not subject to requirements of Section 12(d) of the National Technology Transfer and Advancement Act of 1995 (15 U.S.C. 272 note) because application of those requirements would be inconsistent with the CAA; and,

• Do not provide EPA with the discretionary authority to address, as appropriate, disproportionate human health or environmental effects, using practicable and legally permissible methods, under Executive Order 12898 (59 FR 7629, February 16, 1994).

In addition, this final rule does not have tribal implications as specified by Executive Order 13175 (65 FR 67249, November 9, 2000), because the SIP is not approved to apply in Indian country located in the state, and EPA notes that it will not impose substantial direct costs on tribal governments or preempt tribal law.

The Congressional Review Act, 5 U.S.C. 801 et seq., as added by the Small Business Regulatory Enforcement Fairness Act of 1996, generally provides that before a rule may take effect, the agency promulgating the rule must submit a rule report, which includes a copy of the rule, to each House of the Congress and to the Comptroller General of the United States. EPA will submit a report containing this action and other required information to the U.S. Senate, the U.S. House of Representatives, and the Comptroller General of the United States prior to publication of the rule in the Federal Register. A major rule cannot take effect until 60 days after it is published in the Federal Register. This action is not a “major rule” as defined by 5 U.S.C. 804(2).

Under section 307(b)(1) of the CAA, petitions for judicial review of this action must be filed in the United States Court of Appeals for the appropriate circuit by July 14, 2014. Filing a petition for reconsideration by the Administrator of this final rule does not affect the finality of this action for the purposes of judicial review nor does it extend the time within which a petition for judicial review may be filed, and shall not postpone the effectiveness of such rule or action. This action may not be challenged later in proceedings to enforce its requirements. See section 307(b)(2).

List of Subjects

40 CFR Part 52

Environmental protection, Air pollution control, Incorporation by reference, Intergovernmental relations, Reporting and recordkeeping requirements, and Particulate matter.

40 CFR Part 81

Environmental protection, Air pollution control, National parks.

Dated: April 30, 2014.
A. Stanley Meiburg,
Acting Regional Administrator, Region 4.

40 CFR parts 52 and 81 are amended as follows:

PART 52—[AMENDED]

1. The authority citation for part 52 continues to read as follows:

Authority: 42 U.S.C. 7401 et seq.

Subpart L—Georgia

2. Section 52.570(e) is amended by adding an entry for “1997 Annual PM2.5 Maintenance Plan for the Macon Area” at the end of the table to read as follows:

§ 52.570 Identification of plan.

* * * * *

(e) * * *

EPA-Approved Georgia Non-Regulatory Provisions
Name of non-regulatory SIP provision | Applicable geographic or nonattainment area | State submittal date/effective date | EPA approval date | Explanation
| * * * * * * *
1997 Annual PM2.5 Maintenance Plan for the Macon Area | Bibb County and a portion of Monroe County, Macon, Georgia Nonattainment Area | 6/21/12 | 5/13/14 [Insert citation of publication] |

PART 81—[AMENDED]

3. The authority citation for part 81 continues to read as follows:

Authority: 42 U.S.C. 7401 et seq.

4. In § 81.311, the table entitled “Georgia—PM2.5 (Annual NAAQS)” is amended under “Macon, GA” by revising the entry for “Bibb County and a portion of Monroe County” to read as follows:

§ 81.311 Georgia

* * * * *

Georgia—PM2.5 (Annual NAAQS)
Designated area | Designation ᵃ: Date ¹ | Designation ᵃ: Type
| * * * * * * *
Macon, GA:
Bibb County | This action is effective May 13, 2014 | Attainment.
Monroe County (part) | This action is effective May 13, 2014 | Attainment.
| * * * * * * *
ᵃ Includes Indian Country located in each county or area, except as otherwise specified.
¹ This date is 90 days after January 5, 2005, unless otherwise noted.

* * * * *

[FR Doc. 2014-10842 Filed 5-12-14; 8:45 am]

BILLING CODE 6560-50-P